DEPARTMENT OF ENERGY

Federal Energy Regulatory Commission

[P-20-110]

Pacificorp; Notice of Application Accepted for Filing and Soliciting Comments, Motions To Intervene, and Protests

Take notice that the following hydroelectric application has been filed with the Commission and is available for public inspection.

a. Application Type: Amendment of license.

b. Project No.: 20-110.

c. Date Filed: November 12, 2015.

d. Applicant: PacifiCorp.

e. Name of Project: Bear River Hydroelectric Project.

f. Location: Bear River in Caribou and Franklin counties, Idaho.

g. Filed Pursuant to: Federal Power Act, 16 U.S.C. 791a-825r.

h. Applicant Contact: Mr. Mark Stenberg, Managing Director, Hydro Resources, PacifiCorp, 825 NE Multnomah, Portland, Portland, OR 97232, mark.stenberg@pacificorp.com, 208-547-7305.

i. FERC Contact: Anumzziatta Purchiaroni, (202) 502-6191, anumzziatta.purchiaroni@ferc.gov.

j. Deadline for filing motions to intervene and protests: December 30, 2015.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-20-110.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee is proposing to revise the project boundary to include land changes at the Soda, Grace, and Oneida developments.

Changes to Soda Development include adding a gaging station and access road below the dam within the project boundary and adjusting the project boundary to better fit shoreline buffers and conservation lands.

Changes to Grace Development include minor revisions to the project boundary around the powerhouse to reflect the recently updated U.S. Bureau of Land Management (BLM) permit, identifying lands under the Federal Land Policy and Management Act of 1976, providing a more accurate description of project lands along the Grace flowline, adding conservation lands identified in the Grace/Last Chance Site plan, expanded the project boundary to the headwater to include all lands necessary for project operations, included two additional structures necessary for maintain the operating elevation of the reservoir, and identifying private lands under the reservoir.

Changes to Oneida Development include adding an access road on BLM land, identifying two areas of private lands under the reservoir, correctly identifying lands owned by BLM or Bureau of Reclamation, and adding conservation lands managed under the revised Oneida Site Plan.

l. Locations of the Application: A copy is also available for inspection and reproduction in the Commission's Public Reference Room located at 888 First Street NE., Room 2A, Washington, DC 20426, or by calling (202) 502-8371. This filing may also be viewed on the Commission's Web site at http://www.ferc.gov/docs-filing/elibrary.asp. Enter the docket number excluding the last three digits in the docket number field (P-20) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. All comments, motions to intervene, or protests should relate to project boundary changes, which are the subject of the license amendment. Any filing made by an intervenor must be accompanied by proof of service on all persons listed in the service list prepared by the Commission in this proceeding, in accordance with 18 CFR 385.2010.

Dated: November 30, 2015.
Nathaniel J. Davis, Sr.,
Deputy Secretary.

[FR Doc. 2015-30702 Filed 12-4-15; 8:45 am]

BILLING CODE 6717-01-P